DEPARTMENT OF COMMERCE

International Trade Administration

Manufacturing Council: Renewal of the Manufacturing Council Charter

AGENCY: International Trade Administration, U.S. Department of Commerce.

ACTION: Notice of charter renewal.

SUMMARY: On March 25, 2016, the Department of Commerce Chief Financial Officer and Assistant Secretary for Administration renewed the charter for the Manufacturing Council (Council) for a two-year period, ending March 24, 2018. The Council is a federal advisory committee under the Federal Advisory Committee Act (5 U.S.C. App. 2).

FOR FURTHER INFORMATION CONTACT: Archana Sahgal, Director, ITA Office of Advisory Committees and Industry Outreach, Room 4043, 1401 Constitution Avenue NW., Washington, DC 20230, telephone: 202-482-4501, email: oacio@trade.gov.

SUPPLEMENTARY INFORMATION: The Manufacturing Council (Council) was established by the Secretary of Commerce (Secretary) pursuant to duties imposed by 15 U.S.C. 1512 upon the Department, in compliance with the Federal Advisory Committee Act (FACA), as amended, 5 U.S.C. App., and with the concurrence of the General Services Administration. In renewing the Council, the Department affirms that the advisory committee is necessary and in the public interest.

The Council shall identify and recommend ways for the U.S. Government to respond to the challenges facing United States manufacturers and shall identify and recommend programs and policies to help United States manufacturers maintain competitiveness both at home and abroad.

The Council functions solely as an advisory committee in accordance with the provisions of FACA. In particular, the Council shall advise the Secretary on government policies and programs that affect United States manufacturing and provide a means of ensuring regular contact between the U.S. Government and the manufacturing sector. The Council shall act as a liaison among the stakeholders represented by the membership, and may provide a forum for those stakeholders on current and emerging issues in the manufacturing sector. The Council shall recommend ways to ensure that the United States remains the preeminent destination for investment in manufacturing throughout the world.

The Council shall report to the Secretary on its activities and recommendations regarding United States manufacturing. In creating the reports, the Council should: Survey and evaluate the manufacturing activities of the stakeholders represented by the membership; identify and examine specific problems facing the manufacturing industry; examine the needs of the industry to expand the Council's efforts; and recommend specific solutions to these problems and needs.

Additional information regarding the Council is available at http://www.trade.gov/manufacturingcouncil/.

Dated: March 29, 2016.
Archana Sahgal,
Director, Office of Advisory Committees and Industry Outreach.

[FR Doc. 2016-08489 Filed 4-12-16; 8:45 am]

BILLING CODE 3510-DR-P